DEPARTMENT OF THE INTERIOR

Bureau of Land Management

[LLCOG01200 L12200000.MA0000 223]

Notice of Intent To Implement Camping Permit and Future Fee Program on Public Lands at Rabbit Valley in Mesa County, CO

AGENCY: Bureau of Land Management, Interior.

ACTION: Notice of intent.

SUMMARY: The Bureau of Land Management (BLM) is implementing a future expanded amenity fee program for camping at Rabbit Valley campgrounds, located within McInnis Canyons National Conservation Area (NCA) in Mesa County, Colorado. The fee program will allow the BLM to meet increasing demand for camping activities, protect resources, prevent further deterioration of the recreation setting, enforce existing rules and regulations, and provide for enhanced information and educational opportunities.

DATES: Comments on the proposed fee changes must be received or postmarked by June 28, 2022 and must include the commenter's legible full name and address. Starting on Friday, September 30, 2022, the BLM will have the option to initiate fee collection at Rabbit Valley campgrounds for overnight visitation, unless the BLM publishes a Federal Register notice to the contrary. Comments received after the close of the comment period or delivered to an address other than the one listed in this notice may not be considered or included in the administrative record for the proposed fee program.

ADDRESSES: Please send comments to the BLM Grand Junction Field Office at 2815 H Road, Grand Junction, CO 81506 or by email at blm_co_gj_public_comments@blm.gov. Documents concerning this fee change may be reviewed at the Grand Junction Field Office. Phone: (970) 244-3000.

FOR FURTHER INFORMATION CONTACT: Collin Ewing, NCA Manager, email: cewing@blm.gov; telephone: (970) 244-3000. Persons who use a telecommunications device for the deaf (TDD) may call the Federal Relay Service at (800) 877-8339 to contact Mr. Ewing during normal business hours. The FRS is available 24 hours a day, 7 days a week, to leave a message or question. You will receive a reply during normal business hours.

SUPPLEMENTARY INFORMATION: Under the Federal Lands Recreation Enhancement Act (FLREA) and BLM policy, the BLM may collect fees in conjunction with Recreation Use Permits to manage visitor use, protect natural and cultural resources, achieve the goals and objectives of the applicable management plan, and authorize specific types of recreational activities. Under Section 2(g) of the FLREA, certain campgrounds qualify as sites where visitors can be charged an “Expanded Amenity Recreation Fee.” Visitors wishing to use the expanded amenities can purchase a recreation use permit as described in the FLREA implementing regulations at 43 CFR part 2930. Pursuant to FLREA and the regulations at 43 CFR subpart 2933, the BLM may charge fees for overnight camping and group-use reservations where specific amenities and services are provided.

The BLM is implementing fee collection in the Rabbit Valley campgrounds for overnight camping. Rabbit Valley is a popular recreation destination for off-highway vehicle riding, mountain biking, horseback riding, and hiking, located off Interstate 70, 2 miles east of the Colorado/Utah border. In accordance with a July 2019 decision, the BLM will be constructing new campgrounds in the Rabbit Valley area. Most campsites in the Rabbit Valley campgrounds will require a fee of $20 per night, except for group campsites, which will range from $20 to $50 per night, depending on the number of vehicles ($20 per night for the first two vehicles, additional vehicles are $10 per night up to a maximum of five vehicles). The BLM will identify and post specific visitor fees at each campground. Visitors holding an America the Beautiful—National Parks and Federal Recreational Lands “Senior Annual Pass,” “Senior Lifetime Pass,” or “Access Pass” would be entitled to a 50 percent discount on expanded amenity fees. Veterans and “Annual Interagency Pass,” “Fourth Grade Pass,” and “Gold Star Families Parks Pass” holders are not entitled to this discount.

The BLM is also implementing a temporary, fee-free Individual Special Recreation Permit (ISRP) for camping in both undeveloped and developed designated campsites. Within the footprint of planned future campground development, undeveloped campsites for ISRPs will be designated with a sign. Dispersed camping outside of developed and undeveloped designated campsites will be prohibited. The BLM will phase out the ISRP as the new campgrounds in the Rabbit Valley are constructed.

In response to increasing visitor demand, the BLM issued a July 2019 Decision Record approving the development of additional campsites in the Rabbit Valley area as described in an Environmental Assessment (EA) (DOI-BLM-CO-S081-2018-0005-EA), and prepared a Business Plan for the project. The proposed action described in the EA, and approved in the Decision Record, included the option to charge a fee for overnight camping within the Rabbit Valley project area. The EA explained that the fee program would be developed through a separate process, which would include public involvement and consultation with the BLM Colorado Southwest District Resource Advisory Council (RAC). The BLM's public outreach process and analysis of the fee program are detailed in the Business Plan.

The Business Plan outlines the agency management direction, the need for fee collection, and how the BLM intends to use the fees to improve and maintain the amenities in the Rabbit Valley area. Information about the use of the fee revenues will be posted at one or more kiosks within the fee area annually. As discussed in the Business Plan, the camping fees are consistent with other established fee sites in the region, including other BLM-administered sites and those managed by the U.S. Department of the Interior—National Park Service, U.S. Department of Agriculture—Forest Service, and the State of Colorado.

In accordance with the FLREA and the Council of Environmental Quality regulations implementing the National Environmental Policy Act, the BLM has notified and involved the public throughout this process. The BLM released its draft Business Plan and the Proposed Action for public scoping from June 24 through July 25, 2018. The BLM presented the proposed project and the results of this scoping to the BLM Colorado Southwest District RAC on March 8, 2019. The RAC passed a resolution to support fees in existing and new campgrounds in Rabbit Valley, with a separate resolution recommending that the BLM release the preliminary EA and an updated Business Plan for additional public comment. The public comment period ran from April 16 through May 17, 2019. The BLM presented summaries of the public comments to the RAC on June 13, 2019. The RAC passed a resolution to support the Rabbit Valley camping project and collecting fees as provided in the Business Plan. The BLM welcomes public comments on the proposed fee changes.

Before including your address, phone number, email address, or other personal identifying information in your comment, you should be aware that your entire comment—including your personal identifying information—may be made publicly available at any time. While you can ask us in your comment to withhold your personal identifying information from public review, we cannot guarantee that we will be able to do so.

(Authority: 16 U.S.C. 6803 and 43 CFR 2932)

Benjamin Gruber,
Acting BLM Colorado Associate State Director.

[FR Doc. 2022-06731 Filed 3-29-22; 8:45 am]

BILLING CODE 4310-DN-P